JUDICIAL CONFERENCE OF THE UNITED STATES

Hearings of The Judicial Conference Advisory Committee on Rules of Appellate Procedure

Federal Register Citation of Previous Announcement: 77FR 49828.

AGENCY: Judicial Conference of the United States, Advisory Committee on Rules of Appellate Procedure.

ACTION: Notice of Cancellation of Open Hearing.

SUMMARY: The following public hearing on proposed amendments to the Federal Rules of Appellate Procedure has been canceled: Appellate Rules Hearing, February 1, 2013, Washington, DC.

FOR FURTHER INFORMATION CONTACT: Benjamin J. Robinson, Deputy Rules Officer and Counsel, Administrative Office of the United States Courts, Washington, DC 20544, telephone (202) 502-1820.

Dated: January 2, 2013.
Benjamin J. Robinson,
Rules Committee Deputy and Counsel.

[FR Doc. 2013-00233 Filed 1-8-13; 8:45 am]

BILLING CODE 2210-55-P